DEPARTMENT OF HOUSING AND URBAN DEVELOPMENT

[Docket No. FR-5415-C-35]

Notice of Funding Availability (NOFA) for Fiscal Year 2010; Rural Innovation Fund Program; Correction

AGENCY: Office of the Assistant Secretary for Community Planning and Development, CPD.

ACTION: Notice of technical correction.

SUMMARY: On December 22, 2010, HUD posted on http://www.Grants.gov its Notice of Funding Availability (NOFA) for HUD's FY 2010 Rural Innovation Fund Program, “Rural Fund.” Today's Federal Register publication announces that HUD has posted on http://www.Grants.gov a technical correction that, most significantly, corrects the application due date and corrects the maximum funding amounts for Category 1 proposals. HUD has also corrected an incorrect reference to a “Revolving Fund grant” rather than a “Rural Fund grant.” The revised NOFA can be found and downloaded from http://www.Grants.gov, using the CFDA number for that program, 14.263.

DATES: The correct application deadline date is February 23, 2011. Applications must be received by Grants.gov by 11:59:59 p.m. eastern time on the deadline date. See the General Section for timely receipt requirements. All information required to complete the application is in the General Section and this NOFA. Applicants may download the application and instructions from the Grants.gov Web site at http://www07.grants.gov/applicants/apply_for_grants.jsp. Please carefully read the Notice of HUD's Fiscal Year (FY) 2010 Notice of Funding Availability (NOFA) Policy Requirements and General Section to HUD's FY 2010 NOFAs for Discretionary Programs, posted on Grants.gov on June 7, 2010. Applicants need to be aware that following receipt, applications go through a validation process in which the application may be accepted or rejected. Please allow time for this process to ensure that you meet the timely receipt requirements.

FOR FURTHER INFORMATION CONTACT: For information concerning the HUD Rural Fund program, contact Robert Duncan, Associate Deputy Assistant Secretary for Economic Development, Office of Community Planning and Development, Department of Housing and Urban Development, 451 Seventh Street, SW., Washington, DC 20410-7000; telephone 202-402-4681 (this is not a toll-free number) or 1-877-787-2526 (this is a toll-free number). Questions regarding the 2010 General Section should be directed to the Office of Departmental Grants Management and Oversight at (202) 708-0667 (this is not a toll-free number) or the NOFA Information Center at (800) HUD-8929 (toll-free). Persons with speech or hearing impairments may access these numbers via TTY by calling the toll-free Federal Relay Service at 800-877-8339.

SUPPLEMENTARY INFORMATION: The NOFA for HUD's FY 2010 Rural Innovation Fund Program, “Rural Fund” has been corrected as follows:

1. On pages 1 and 2, the application deadline date has been corrected to read: “February 23, 2011.”

2. On page 5, under the heading “5. Consortium,” a phrase in the third full paragraph has been corrected to read: “If the consortium is awarded a Rural Fund grant, within 120 days after the grant award, the consortium members must execute a formal funding agreement.”

3. On page 32, section d.(1) has been corrected to read as follows:

(1) Maximum amount established for Category 1 proposals is $20,750,000. For Category 1, Single Purpose and Comprehensive, HUD will select Single Purpose applications that score 75 points or more in rank order until selections totaling $7,500,000 have been reached. If there are an insufficient number of Single Purpose applications to utilize the full $7,500,000 then the remaining amount funds will be available for Category 1 Comprehensive grants. If all $7,500,000 is utilized for the Single Purpose grants, then of the remaining $13,250,000 funds, HUD will evaluate the total number of unfunded Category 1 applications that rated above 75 points, the comparative scores of the unfunded Single Purpose and Comprehensive applications and determine what total amounts will be awarded to the remaining unfunded Single Purpose grants and Comprehensive grants. If the total number of Single Purpose grant applications that rank 75 points or more totals $7,500,000 or less, HUD will allocate all of the remaining balance to Category 2 applications that rank 75 points or higher. HUD, in its sole discretion, may decide not to utilize the full amount of funds available.

Dated: December 29, 2010.
Clifford Taffet,
General Deputy Assistant Secretary for Community Planning and Development (Acting).

[FR Doc. 2010-33299 Filed 1-4-11; 8:45 am]

BILLING CODE 4210-67-P